Title 3—

The President

Proclamation 9469 of July 18, 2016

Captive Nations Week, 2016

By the President of the United States of America

A Proclamation

Since our earliest days, the United States has worked to uphold the rights enshrined in our founding documents. The ideals that sparked our revolution find their truest expression in democracy, and our enduring belief in the right to self-govern is not limited to our borders—we believe the human impulse toward freedom is universal. During Captive Nations Week, we recognize the inherent dignity of all people, and we renew our support for those struggling under oppressive regimes and striving to secure the blessings of liberty for themselves and their posterity.

After World War II, America joined with other nations to remake the world—to rebuild, to forge a new international order, and to advance a more just and lasting peace. And following a decades-long Cold War, with strength and resolve and the power of our ideals, we rejoiced as an Iron Curtain was brought down and a new beginning was set in motion. But although more people live in democracies today—and despite the fact that we are witness to the most peaceful and prosperous era in human history—such progress is not inevitable, and dangerous forces threaten to pull the world backward.

We must bolster our commitment to upholding freedom and democracy wherever they are jeopardized. That means ensuring the people of Ukraine have the right to choose their own destiny and ensure their independence; it means helping the millions of those displaced from Syria seek a better and safer future, while continuing our efforts to bring an end to this brutal conflict and destroy ISIL. It also means discussing our differences with nations more directly. And we have opened a new chapter in our relationship with Cuba, which includes direct engagement with their government on human rights and steps to empower and create opportunity for the Cuban people.

Around the world, a new generation of young people—connected by technology and driven by idealism and a willingness to stand up for their beliefs—is calling for more accountability in government. As heirs to a struggle for freedom that has long defined our character, Americans must lead by example and chart new paths to liberty and opportunity. We will continue to stand for equality and dignity beyond our borders and encourage economic and political reforms that foster democracy. And we remain dedicated to leading and working with others to build security, prosperity, and justice, and to fighting for any person still suffering under the grasp of tyranny.

This week, let us rededicate ourselves to broadening democracy's reach and promoting its true pillars—the rule of law, fair elections, a free press, and a vibrant civil society. As we work to lift up the lives of those whose governments still rule by fear and intimidation, let us stay vigilant in defense of democratic values and the ideals that keep us free.

The Congress, by joint resolution approved July 17, 1959 (73 Stat. 212), has authorized and requested the President to issue a proclamation designating the third week of July of each year as “Captive Nations Week.”

NOW, THEREFORE, I, BARACK OBAMA, President of the United States of America, do hereby proclaim July 17 through July 23, 2016, as Captive Nations Week. I call upon the people of the United States to reaffirm our deep ties to all governments and people committed to freedom, dignity, and opportunity for all.

IN WITNESS WHEREOF, I have hereunto set my hand this eighteenth day of July, in the year of our Lord two thousand sixteen, and of the Independence of the United States of America the two hundred and forty-first.

[FR Doc. 2016-17438

Filed 7-20-16; 11:15 am]

Billing code 3295-F6-P